DEPARTMENT OF TRANSPORTATION

Federal Aviation Administration

14 CFR Part 39

[Docket No. FAA-2023-1986; Project Identifier AD-2022-00015-T]

RIN 2120-AA64

Airworthiness Directives; The Boeing Company Airplanes

AGENCY: Federal Aviation Administration (FAA), DOT.

ACTION: Notice of proposed rulemaking (NPRM).

SUMMARY: The FAA proposes to adopt a new airworthiness directive (AD) for certain The Boeing Company Model 767 airplanes. This proposed AD was prompted by a report of cracks on the forward entry door and forward service door cutout aft lower corner fuselage skin and bear strap. This proposed AD would require repetitive inspections for cracking at the affected area, and applicable on-condition actions. The FAA is proposing this AD to address the unsafe condition on these products.

DATES: The FAA must receive comments on this proposed AD by November 20, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1986; or in person at Docket Operations between 9 a.m. and 5 p.m., Monday through Friday, except Federal holidays. The AD docket contains this NPRM, any comments received, and other information. The street address for Docket Operations is listed above.

Material Incorporated by Reference:

• For service information identified in this NPRM, contact Boeing Commercial Airplanes, Attention: Contractual & Data Services (C&DS), 2600 Westminster Blvd., MC 110-SK57, Seal Beach, CA 90740-5600; telephone 562-797-1717; website myboeingfleet.com.

• You may view this service information at the FAA, Airworthiness Products Section, Operational Safety Branch, 2200 South 216th St., Des Moines, WA. For information on the availability of this material at the FAA, call 206-231-3195. It is also available at regulations.gov by searching for and locating Docket No. FAA-2023-1986.

FOR FURTHER INFORMATION CONTACT: Joseph Hodgin, Aviation Safety Engineer, FAA, 2200 South 216th St., Des Moines, WA 98198; phone: 206-231-3962; email: Joseph.J.Hodgin@faa.gov.

SUPPLEMENTARY INFORMATION:

Comments Invited

The FAA invites you to send any written relevant data, views, or arguments about this proposal. Send your comments to an address listed under ADDRESSES. Include “Docket No. FAA-2023-1986; Project Identifier AD-2022-00015-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Joseph Hodgin, Aviation Safety Engineer, FAA, 2200 South 216th St., Des Moines, WA 98198; phone: 206-231-3962; email: Joseph.J.Hodgin@faa.gov. Any commentary that the FAA receives that is not specifically designated as CBI will be placed in the public docket for this rulemaking.

Background

The FAA has received reports from operators of cracks found on the forward entry door and forward service door cutout aft lower corner fuselage skin and bear strap between stringer 19 and the lower main sill chord, from station (STA) 332 to STA 340. The cracks were reported between 25,983 and 47,385 total flight cycles, and between 45,771 and 80,680 total flight hours. These cracks have been occurring at earlier flight cycles and are spreading faster than initially predicted. One Model 767-300 operator reported a 5.3-inch crack on the forward service door, common to only the skin in the lower aft corner, and an associated 0.32-inch crack in the bear strap at the same location. The airplane had completed 43,459 total flight cycles and 61,086 total flight hours when the cracks were discovered. Undetected fatigue cracks, if not addressed, could result in a principal structural element's loss of limit load capability, adversely affecting the airplane's structural integrity.

FAA's Determination

The FAA is issuing this NPRM after determining that the unsafe condition described previously is likely to exist or develop on other products of the same type design.

Related Service Information Under 1 CFR Part 51

The FAA reviewed Boeing Alert Requirements Bulletin 767-53A0301 RB, Revision 2, dated May 24, 2023. This service information specifies procedures for repetitive inspections (external detailed, internal detailed, and open hole high frequency eddy current) for cracking at the forward entry door and forward service door cutout aft lower corner fuselage skin and bear strap area. This service information also specifies procedures for on-condition actions, including crack repair. This service information is reasonably available because the interested parties have access to it through their normal course of business or by the means identified in ADDRESSES.

Proposed AD Requirements in This NPRM

This proposed AD would require accomplishing the actions specified in the service information already described, except for any differences identified as exceptions in the regulatory text of this proposed AD.

Costs of Compliance

The FAA estimates that this AD, if adopted as proposed, would affect 682 airplanes of U.S. registry. The FAA estimates the following costs to comply with this proposed AD:

Estimated Costs
Action | Labor cost | Parts cost | Cost per product | Cost on U.S. operators
Inspections | Up to 8 work-hours × $85 per hour = $680 per inspection cycle | $0 | Up to $680 per inspection cycle | Up to $463,760 per inspection cycle.

The FAA has received no definitive data on which to base the cost estimates for the on-condition actions (i.e., possible crack repair) specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2023-1986; Project Identifier AD-2022-00015-T.

(a) Comments Due Date

The FAA must receive comments on this airworthiness directive (AD) by November 20, 2023.

(b) Affected ADs

None.

(c) Applicability

This AD applies to The Boeing Company airplanes, certificated in any category, identified in paragraphs (c)(1) and (2) of this AD.

(1) Model 767-200, -300, -300F, and -400ER series airplanes, as identified in Boeing Alert Requirements Bulletin 767-53A0301 RB, Revision 2, dated May 24, 2023.

(2) Model 767-2C series airplanes, line numbers 1065, 1066, 1067, 1069, 1091, 1092, 1098, 1100, 1102, 1104, 1107, 1109, 1111, 1113, 1114, 1116, 1117, 1119, 1120, 1122, 1124, 1126, 1128, 1129, 1131, 1132, 1134, 1135, 1137, 1139, 1143, 1145, 1147, 1149, 1151, 1154, 1156, 1158, 1160, 1162, 1164, 1166, 1168, 1170, 1172, 1174, 1176, 1178, 1181, 1184, 1188, 1192, 1196, 1200, 1202, 1205, 1207, 1210, 1213, 1216, 1219, 1223, 1226, 1230, 1234, 1236, 1238, 1241, 1243, 1246, 1248, 1250, 1252, 1254, 1257, 1259, 1261, 1264, 1267, 1269, 1271, and 1273.

(d) Subject

Air Transport Association (ATA) of America Code 53, Fuselage.

(e) Unsafe Condition

This AD was prompted by a report of cracks found on the forward entry door and forward service door cutout aft lower corner fuselage skin and bear strap. The FAA is issuing this AD to address undetected fatigue cracks. The unsafe condition, if not addressed, could result in a principal structural element losing its limit load capability, adversely affecting the airplane's structural integrity.

(f) Compliance

Comply with this AD within the compliance times specified, unless already done.

(g) Required Actions: Model 767-200, -300, -300F, and -400ER

For Model 767-200, -300, -300F, -400ER series airplanes: Except as specified by paragraph (h) of this AD, at the applicable times specified in the “Compliance” paragraph of Boeing Alert Requirements Bulletin 767-53A0301 RB, Revision 2, dated May 24, 2023, do all applicable actions identified in, and in accordance with, the Accomplishment Instructions of Boeing Alert Requirements Bulletin 767-53A0301 RB, Revision 2, dated May 24, 2023.

Note 1 to paragraph (g): Guidance for accomplishing the actions required by this AD can be found in Boeing Alert Service Bulletin 767-53A0301, Revision 2, dated May 24, 2023, which is referred to in Boeing Alert Requirements Bulletin 767-53A0301, Revision 2, dated May 24, 2023.

(h) Exceptions to Service Information Specifications

(1) Where Boeing Alert Requirements Bulletin 767-53A0301 RB, dated May 24, 2023, compliance time columns in Tables 1 and 2, paragraph E (Compliance), use the phrase “the Original Issue date of Requirements Bulletin 767-53A0301 RB,” this AD requires replacing those words with “the effective date of this AD.”

(2) Where Boeing Alert Requirements Bulletin 767-53A0301 RB, Revision 2, dated May 24, 2023, specifies contacting Boeing for repair instructions: This AD requires doing the repair before further flight using a method approved in accordance with the procedures specified in paragraph (l) of this AD.

(i) Required Actions: Model 767-2C

At the later of the times specified in paragraphs (i)(1) and (2) of this AD: Perform inspections (external detailed, internal detailed, and open hole high frequency eddy current, as applicable) for cracking at the forward entry door and forward service door cutout aft lower corner fuselage skin and bear strap area, and repair any cracks found, in accordance with a method approved by the Manager, AIR-520, Continued Operational Safety Branch, FAA.

Note 1 to paragraph (i): Guidance on doing the required actions can be found in Boeing Alert Requirements Bulletin 767-53A0303 RB, Revision 1, dated June 29, 2023; and Boeing Alert Requirements Bulletin 767-53A0308 RB, Revision 1, dated June 21, 2023.

(1) Before 15,000 cumulative flight cycles or 30,000 cumulative total accumulated cycles, whichever occurs first. These terms are defined in paragraph (j) of this AD.

(2) Within 2,250 flight cycles, 4,500 total accumulated cycles, or 24 months after the effective date of this AD, whichever occurs first.

(j) Compliance Time Definitions

The definitions in paragraphs (j)(1) through (5) of this AD apply to this AD.

(1) A “flight cycle” is an operation by an aircraft that is initially stopped on the ground, departs in flight, attains a maximum above ground level (AGL) altitude greater than 5,000 feet relative to the runway, lands on a runway, and stops on the ground. A flight cycle may include one or more touch-and-go cycles.

(2) A “touch-and-go cycle” is an operation by an aircraft that lands and departs on a runway without stopping or exiting the runway and is immediately followed by a short flight with a maximum AGL altitude of 5,000 feet relative to the runway.

(3) “Total accumulated cycles” is the sum of the accumulated number of flight cycles, accumulated missed approaches, and the accumulated number of touch-and-go cycles.

(4) A “missed approach” (or go-around) is an aircraft landing approach that is discontinued and proceeded by a climb-out for any reason without landing gear touching the runway and is either immediately preceded by or immediately followed by a short flight with a maximum AGL altitude of 5,000 feet relative to the runway. Any flight operation not meeting this definition is considered a flight cycle.

(5) “Cumulative” cycles are total cycles since new.

(k) Credit for Previous Actions

This paragraph provides credit for the actions specified in paragraph (g) of this AD, if those actions were performed before the effective date of this AD using Boeing Alert Requirements Bulletin 767-53A0301 RB, dated April 21, 2021, or Boeing Alert Requirements Bulletin 767-53A0301 RB, Revision 1, dated April 11, 2022.

(l) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (m)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(m) Related Information

(1) For more information about this AD, contact Joseph Hodgin, Aviation Safety Engineer, FAA, 2200 South 216th St., Des Moines, WA 98198; phone: 206-231-3962; email: Joseph.J.Hodgin@faa.gov.

(2) Service information identified in this AD that is not incorporated by reference is available at the addresses specified in paragraphs (n)(3) and (4) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin 767-53A0301 RB, Revision 2, dated May 24, 2023.

(ii) [Reserved]

(3) For service information identified in this AD, contact Boeing Commercial Airplanes, Attention: Contractual & Data Services (C&DS), 2600 Westminster Blvd., MC 110-SK57, Seal Beach, CA 90740-5600; telephone 562-797-1717; website myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on September 28, 2023.
Victor Wicklund,
Deputy Director, Compliance & Airworthiness Division, Aircraft Certification Service.

[FR Doc. 2023-22066 Filed 10-4-23; 8:45 am]

BILLING CODE 4910-13-P